ENVIRONMENTAL PROTECTION AGENCY

40 CFR Part 52

[GA-47;GA-52; GA-55-200030; FRL-6914-8]

Approval and Promulgation of Implementation Plans Georgia: Approval of Revisions to Georgia State Implementation Plan

AGENCY: Environmental Protection Agency (EPA).

ACTION: Proposed rule.

SUMMARY: In a December 16, 1999, Federal Register document, EPA proposed to approve the 1-hour ozone attainment demonstration for the Atlanta nonattainment area (Atlanta attainment demonstration) which was submitted by the Georgia Environmental Protection Division (GAEPD) on October 28, 1999. EPA's proposed approval was based on the condition that the GAEPD satisfy certain requirements established in the proposal. Subsequently, the GAEPD submitted revisions to the Atlanta attainment demonstration on January 31, 2000, and July 31, 2000. In a letter dated November 23, 1999, the GAEPD agreed to meet the following commitments: To submit rules requiring the implementation of nitrogen oxide (NOX) and volatile organic compound (VOC) reasonably available control technology (RACT) in the 32 additional counties for sources with emissions in excess of 100 tons per year; to complete an early assessment of attainment prior to 2003; to identify and adopt regulations for sources that will be controlled to achieve the additional emission reductions that are needed for attainment as determined by EPA's Method 1. These revisions address those commitments. EPA is proposing in this document to approve these revisions. Final action on these rule revisions will occur at the same time, or prior to, final action on the 1-hour ozone attainment demonstration for the Atlanta nonattainment area.

DATES: Written comments must be received on or before January 17, 2001.

ADDRESSES: All comments should be addressed to: Scott M. Martin at the EPA, Region 4 Air Planning Branch, 61 Forsyth Street, SW., Atlanta, Georgia 30303.

Copies of the State submittals are available at the following addresses for inspection during normal business hours:

Environmental Protection Agency, Region 4, Air Planning Branch, 61 Forsyth Street, SW, Atlanta, Georgia 30303-8960.

Air Protection Branch, Georgia Environmental Protection Division, Georgia Department of Natural Resources, 4244 International Parkway, Suite 120, Atlanta, Georgia 30354. Telephone (404) 363-7000.

FOR FURTHER INFORMATION CONTACT: Scott M. Martin at (404) 562-9036. martin.scott@epa.gov.

SUPPLEMENTARY INFORMATION:

I. Background

In a December 16, 1999, Federal Register document (see 64 FR 70478), EPA proposed to approve the 1-hour ozone attainment demonstration for the Atlanta nonattainment area (Atlanta attainment demonstration) which was submitted by the Georgia Environmental Protection Division (GAEPD) on October 28, 1999. EPA's proposed approval was based on the condition that the GAEPD satisfy certain requirements established in the proposal. Subsequently, the GAEPD submitted revisions to the Atlanta attainment demonstration on January 31, 2000, and July 31, 2000. In a letter dated November 23, 1999, the GAEPD agreed to meet the following commitments: to submit rules requiring the implementation of nitrogen oxide (NOX) and volatile organic compound (VOC) reasonably available control technology (RACT) in the 32 additional counties for sources with emissions in excess of 100 tons per year; to complete an early assessment of attainment prior to 2003; to identify and adopt regulations for sources that will be controlled to achieve the additional emission reductions that are needed for attainment as determined by EPA's Method 1. These revisions address those commitments as well as comment received on the regulations. EPA is proposing in this document to approve these revisions.

II. Analysis of State's Submittal

The Clean Air Act as amended in 1990, (CAA) requires that serious ozone nonattainment areas perform photochemical grid modeling to help determine the level of emission reductions of volatile organic compounds (VOCs) and nitrogen oxides (NOX) necessary to attain the 1-hour ozone standard. The GAEPD fulfilled this requirement primarily through the application of the Urban Airshed Model, Variable Grid Version (UAM-V). When the modeling does not conclusively demonstrate attainment, additional analyses may be presented to help determine whether the area will attain the standard. As with other predictive tools, there are inherent uncertainties associated with modeling and its results. For example, there are uncertainties in some of the modeling inputs, such as the meteorological and emissions data bases for individual days and in the methodology used to assess the severity of an exceedance at individual sites. The EPA's guidance recognizes these limitations, and provides a means for considering other evidence to help assess whether attainment of the ozone standard is likely. The process by which this is done is called a weight of evidence (WOE) determination. For a more detailed discussion of UAM-V modeling and WOE, please reference the December 16, 1999, Federal Register (64 FR 70478).

The GAEPD relied on WOE to demonstrate attainment of the 1-hour ozone standard. GAEPD used EPA's Method 1 technique to identify the additional percentage reduction in NOX and VOC, from the 1996 emissions, needed for attainment. A detailed discussion of the steps used in Method 1 to calculate the additional emission reductions needed for attainment is provided in the technical support document (TSD) which can be obtained from the Regional Office contact. GAEPD's application of this procedure estimates that additional reductions of 3.94 percent (35.75 tpd) NOX and 3.59 percent ( 20.81 tpd) VOC are needed for attainment. Per EPA guidance, the State has flexibility to substitute NOX reductions for VOC and VOC for NOX. Adequate supporting documentation for the basis of any substitution must be submitted to EPA along with the adopted regulations. The following table summarizes the reductions including the emission reduction changes from rules included in the October 28, 1999, submittal which will be used to achieve the shortfall. A detailed discussion of each measure follows the table.

Required NOX Reductions | Total of 35.75 tpd
Industrial Open Burning Ban | −0.24
Commercial Open Burning Ban | −0.19
Residential Open Burning Ban | −3.66
Slash Burning Ban | −3.66
Additional Electrical Generating Unit Controls | −44.06
Relieve New Source Review in 26 Counties | +1.73
Relieve RACT in 26 Counties | +10.98
Delay RACT in 6 Counties | +0.81
New Combustion Turbine Rule | −3.1
Extra NOX Reductions Beyond Those Required | 5.64
Required VOC Reductions | 20.81
Industrial Open Burning Ban | −0.91
Commercial Open Burning Ban | −0.96
Residential Open Burning Ban | −18.48
Slash Burning Ban | −17.55
Prescribed Burning Ban | −3.5
Relieve New Source Review in 26 Counties | +0.2
Delay RACT in 6 Counties | +3.69
Relieve RACT in 26 Counties | +10.66
Extra VOC Reductions Beyond Those Required | 6.04

Description of Major Revisions to Rules for Air Quality Submitted on January 31, 2000

The January 31, 2000, submittal included several regulations that will reduce emissions of NOX and VOC in the Atlanta modeling domain. EPA is proposing to approve the revisions to Georgia's Rules for Air Quality Control Chapter 391-3-1 described below.

The October 28, 1999, submittal expanded the coverage of several rules outside the 13 county nonattainment area to an additional 32 counties for a total of 45 counties. After receiving adverse comment from many of the counties affected by the expansion, the EPD agreed to revise the rules to reduce the economic hardship imposed on the smaller and more rural counties. The following 26 counties shall no longer be subject to the requirements of the rules listed below: Banks, Barrow, Butts, Chattooga, Clarke, Dawson, Floyd, Gordon, Haralson, Heard, Jackson, Jasper, Jones, Lamar, Lumpkin, Madison, Meriwether, Monroe, Morgan, Oconee, Pickens, Pike, Polk, Putnam, Troup and Upson. 391-3-1-.02(2)(tt) VOC Emissions from Major Sources, (vv) Volatile Organic Liquid Handling and Storage, (yy) Emissions of Nitrogen Oxides from Major Sources, (ccc) VOC Emissions from Bulk Mixing Tanks, (ddd) VOC Emissions from Offset Lithography, (eee) VOC Emissions from Expanded Polystyrene Products Manufacturing, (hhh) Wood Furniture Finishing and Cleaning Operations and 391-3-1-.03(8)(c)(14) Additional Provisions for Areas Contributing to the Ambient Air Level of Ozone in the Metropolitan Atlanta Ozone Nonattainment Area. In addition to the 13 counties in the Atlanta 1-hour ozone nonattainment area, Bartow, Carroll, Hall, Newton, Spalding, and Walton counties shall be subject to the rules listed above.

Rule 391-3-1-.02(2)(jjj) relating to “NOX Emissions from Electric Utility Steam Generating Units” is being amended to expand the coverage of the rule to include affected coal-fired electric utility steam generating units in the counties of Monroe and Putnam and to include a lower average NOX emissions limit for all affected units.

Effective May 1, 2003, the NOX emissions from all affected units at Plants Bowen (Bartow County), Hammond (Floyd County), McDonough (Cobb County), Wansley (Heard County), and Yates (Coweta County) will be limited to the equivalent of 0.13 lb/million BTU five plant average. An overlapping requirement, also effective May 1, 2003, limits NOX emissions from all the same units described above plus the units at Plants Branch (Putnam County) and Scherer (Monroe County) to the equivalent of 0.20 lb/million BTU seven plant average. Compliance will be determined potentially in two steps. First, each source will be assigned a specific alternative emission limit. If the actual emission rate from each source is less than its alternative limit, then all affected sources would be in compliance. If the actual emission rate from any source is greater than its alternative limit, then compliance would be demonstrated by showing that the actual BTU-weighted average emission rate for all affected sources is less than 0.13 lb/million BTU for the 5 plants and 0.20 lb/million BTU for the 7 plants listed above. Compliance with the alternative emission limits would be determined such that their BTU-weighted average does not exceed the 0.13 and 0.20 lb/million BTU limits. The compliance period will be based on a 30-day rolling average beginning May 1 and ending September 30 of each year.

Rule 391-3-1-.02(2)(kkk) relating to “VOC Emissions from Aerospace Manufacturing and Rework Facilities” is being amended by adding compliance dates. Compliance dates have been added which give affected sources located outside of the Atlanta 1-hour ozone nonattainment area until January 1, 2001, to comply with the rule.

Rule 391-3-1-.02(2)(mmm) relating to “ NOX Emissions from Stationary Gas Turbines and Stationary Engines used to Generate Electricity” is being amended to remove an exemption from the rule. The exemption, “Stationary engines used exclusively in the handling and distribution of natural gas,” is being removed. Stationary engines used to pump, compress, or liquefy natural gas are still exempt under another exemption which exempts engines not connected to an electrical generator. Therefore, the removal of the exemption makes engines used to generate electricity at natural gas pumping, compression, or liquefaction plants subject to the rule consistent with other industries.

Rule 391-3-1-.03(8)(c)(15) relating to “Additional Provisions for Electrical Generating Units Located in Areas Contributing to the Ambient Air Level of Ozone in the Metropolitan Atlanta Ozone Nonattainment Area” is being added. “Electrical generating unit” is defined as a fossil fuel fired stationary boiler, combustion turbine, or combined cycle system that serves a generator which produces electricity for sale. Any new electrical generating unit located at a “major source” (which is defined as any source which has the potential to emit at least 100 tons per year NOX) or any physical change or change in the method of operation of an existing electrical generating unit located at an existing major source which results in a net increase of 40 tons or more NOX is subject to additional permitting requirements. This rule is applicable to electrical generating units at major sources located in 26 counties surrounding the 13 county Atlanta nonattainment area and the six counties subject to Rule 391-3-1-.03(8)(c)(14). Sources subject to this rule are required to use best achievable control technology (BACT) to control emissions and are required to obtain emission offsets at a ratio of 1.1 to 1. Sources located in the counties of Banks, Barrow, Bartow, Butts, Carroll, Chattooga, Clarke, Dawson, Floyd, Gordon, Hall, Haralson, Heard, Jackson, Jasper, Jones, Lamar, Lumpkin, Madison, Meriwether, Monroe, Monroe, Morgan, Newton, Oconee, Pickens, Pike, Polk, Putnam, Spalding, Troup, Upson, and Walton (32 county area) shall be subject to this rule.

Rule 391-3-1-.03(13) relating to “Emission Reduction Credits” is being amended. The purpose of this rule is to facilitate construction permitting for sources undertaking major modifications or new constructions in federally designated ozone nonattainment areas and areas contributing to ambient concentrations of ozone in nonattainment areas in the state of Georgia. The proposed amendments to this rule revise the eligibility requirements for major sources to make them consistent with corresponding changes that are being proposed for Rule 391-3-1-.03, Section (8); respond to comments received from EPA concerning applicability of its recently issued Economic Incentives Program to the Emission Reductions Credit Program; clarify the provisions for discounting of credits based on time banked; consolidate and move all definitions to the end of the rule; and strike a section referring to provisions of Rule 391-3-1-.03, Section (8).

Description of Major Revisions to Rules for Air Quality Submitted on July 31, 2000

Rule 391-3-1-.01, Definitions, subsection (nnnn) “Procedure for Testing and Monitoring Sources of Air Pollutants” is amended to reference a revised version of the Procedures for Testing and Monitoring Sources of Air Pollutants (“PTM”) effective April 1, 2000, which includes changes to specific test methods and procedures and to include a new section describing compliance procedures and monitoring requirements for a new emission standard for large combustion turbines. These revisions have been reviewed and meet applicable requirements.

Rule 391-3-1-.02(2)(lll) relating to “NOX Emissions from Fuel-Burning Equipment” is being amended to exempt fuel burning equipment brought on site by May 1, 1999, but which had not been installed or obtained an air quality permit under 391-3-1-.03(1) by May 1, 1999 and to provide an exemption for duct burners associated with combined cycle gas turbine systems. The original rule exempted existing boilers in their current locations because the cost of retrofitting existing boilers to comply with this rule was determined to be prohibitive. The rule was amended in January 2000, with an effective date of February 16, 2000, to exempt fuel burning equipment which had been permitted by May 1, 1999, even if the equipment was not yet installed and operational by that date. The intent was to grandfather such units because the permittee was likely to have contracted for a new boiler that could have not complied with the emission limit and incurred unrecoverable expense. Likewise, the intent in proposing this second amendment is to grandfather fuel burning equipment which had been purchased and brought on site, but which had not been installed nor made application sufficiently in time to obtain a permit by May 1, 1999. Another exemption is being added for duct burners associated with combined cycle gas turbine systems. These emission units will be subject to more stringent NOX limits under Georgia Rule 391-3-1-.02(2)(nnn) or Georgia Rule 391-3-1-.03(8)(c) as part of the overall combined cycle system.

Rule 391-3-1-.02(2)(nnn) relating to “NOX Emissions from Large Stationary Gas Turbines” is being amended. This rule will regulate NOX emissions from new and existing stationary gas turbines greater than 25MW that are located in a 45 county area in and around Atlanta (i.e., the 13 county nonattainment area and the 32 county area adjacent to the nonattainment area). NOX emissions from affected stationary gas turbines permitted before April 1, 2000 will be limited to not more than 30 parts per million (or 50 parts per million for the oil-fired unit) at 15 percent oxygen with a compliance date of May 1, 2003. NOX emissions from affected stationary gas turbines permitted on or after April 1, 2000, will be limited to not more than 6 parts per million at 15 percent oxygen with a compliance requirement upon startup. The limits in this rule will apply during the period May 1 through September 30 of each year. New units subject to a NOX limit under 391-3-1-.03(8)(c)14. or 15. would be exempt from this rule. For existing units, a provision was included in the rule allowing the owner/operator to petition the Director for a revision to the rule in case a source is unable to meet the 30 parts per million (or 50 parts per million for the oil-fired unit) through combustion modifications. A SIP submittal to EPA would be required to revise the rule.

Rule 391-3-1-.02(5) relating to “Open Burning” is being amended. The coverage of the rule is being expanded beyond the existing 13 county Atlanta 1-hour ozone nonattainment area to include the additional 32 county area. Subparagraph (a) is amended to add a “prescribed burning” and a “slash burning” exemption to the rule. Subparagraph (b) is reorganized to add clarity to the rule and is amended to add county specific restrictions for the six counties of Bartow, Carroll, Hall, Newton, Spalding, and Walton as well as the remaining 26 counties of the 32 county area. The six counties listed above will have the same restrictions as those in the Atlanta nonattainment area. The twenty-six remaining counties of the 32 county area will have the same restrictions as those in the Atlanta nonattainment area with the exception that “prescribed burning” is allowed in the twenty-six counties. Subparagraph (f) is added to include the definitions for “Prescribed Burning” and “Slash Burning.”

Rule 391-3-1-.03(6)(h)3 relating to “SIP Permit Exemptions for Industrial Operations” is being amended. A new exemption from permitting for small feed mill or grain mill ovens and for surface coating drying ovens is being added.

Rule 391-3-1-.03(8) Permit Requirements is being amended. Provisions for internal offsets at a ratio of 1.3 to 1 to avoid New Source Review permitting requirements are being restored in paragraphs (c)(13)(iii) and (iv). These provisions will allow existing sources located within the Atlanta 1-hour ozone nonattainment area to avoid becoming subject to federal New Source Review permitting requirements by offsetting emission increases associated with modifications at a 1.3 to 1.0 ratio. See CAA section 182(c)8 Special Rule for Modifications of Sources Emitting Greater than 100 tons per year.

Rule 391-3-1-.03(11) relating to “Permit by Rule” is being amended. A typographical error in the citation of federal operating permit regulations is being corrected. The reference to 40 CFR 70.5(6)(f) is being replaced with the correct reference to 40 CFR 70.6(f).

III. Proposed Action

EPA is proposing to approve the revisions to Atlanta attainment demonstration as discussed above because they meet EPA and CAA requirements and provide reductions to meet the additional reductions identified as needed to support the attainment demonstration.

IV. Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this proposed rule approves pre-existing requirements under state law and does not impose any additional enforceable duty beyond that required by state law, it does not contain any unfunded mandate or significantly or uniquely affect small governments, as described in the Unfunded Mandates Reform Act of 1995 (Public Law 104-4). For the same reason, this proposed rule also does not significantly or uniquely affect the communities of tribal governments, as specified by Executive Order 13084 (63 FR 27655, May 10, 1998). This proposed rule will not have substantial direct effects on the states, on the relationship between the national government and the states, or on the distribution of power and responsibilities among the various levels of government, as specified in Executive Order 13132 (64 FR 43255, August 10, 1999), because it merely proposes to approve a state rule implementing a federal standard, and does not alter the relationship or the distribution of power and responsibilities established in the Clean Air Act. This proposed rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the Executive Order. This proposed rule does not impose an information collection burden under the provisions of the Paperwork Reduction Act of 1995 (44 U.S.C. 3501 et seq.).

List of Subjects in 40 CFR Part 52

Environmental protection, Air pollution control, Carbon monoxide, Hydrocarbons, Incorporation by reference, Intergovernmental relations, Lead, Nitrogen dioxide, Ozone, Particulate matter, Reporting and recordkeeping requirements, Sulfur oxides.

Dated: November 16, 2000.
Michael V. Peyton,
Acting Regional Administrator, Region 4.

[FR Doc. 00-32151 Filed 12-15-00; 8:45 am]

BILLING CODE 6560-50-P